ENVIRONMENTAL PROTECTION AGENCY

[EPA-HQ-OPP-2017-0007; FRL-9967-35]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before November 13, 2017.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov.; or Michael Goodis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

1. File symbol: 524-AUL. Docket ID number: EPA-HQ-OPP-2017-0402. Applicant: Monsanto Company, 800 North Lindbergh Blvd., St. Louis, MO 63167. Product name: MON 88702. Active ingredient: Insecticide—Bacillus thuringiensis Cry51Aa2.834_16 proteins and the genetic material (vector PV-GHIR508523) necessary for its production in MON 88702 cotton (OECD Unique Identifier: MON-887Ø2-4). Proposed use: Plant-incorporated protectant. Contact: BPPD.

2. File symbol: 69526-RO. Docket ID number: EPA-HQ-OPP-2017-0403. Applicant: Petro-Canada Lubricants, Inc., 2310 Lakeshore Rd. W., Mississauga, Ontario L5J 1K2, Canada (c/o EnviroReg LLC, 13411 Marble Rock Dr., Chantilly, VA 20151). Product name: VNT Selective Herbicide Ready-To-Use. Active ingredient: Herbicide—Calcium Disodium Ethylenediaminetetraacetic Acid (CaNa2EDTA) at 2%. Proposed use: Nonfood, spot, weed treatment on lawns. Contact: BPPD.

3. File symbol: 91213-E. Docket ID number: EPA-HQ-OPP-2017-0336. Applicant: United States Department of Agriculture—Agricultural Research Service, 215 Johnson Hall, Washington State University, Pullman, WA 99164. Product name: Battalion Pro. Active ingredient: Herbicide—Pseudomonas fluorescens strain ACK55 at 0.34%. Proposed use: For suppression of cheat grass/downy brome, medusahead, and jointed goat grass through use as a seed treatment or a spray in the following areas: crops (i.e., cereal grains and forage, fodder, and straw of cereal grains; grass forage, fodder, and hay; nongrass animal feeds; oilseeds; legumes; tree nuts; and berries and small fruit), rangeland, forest, pasture, turf, conservation reserve program lands, sod production, golf courses, recreational areas, road sides, road cuts, construction sites, and rights-of-way. Contact: BPPD.

4. File symbol: 91213-R. Docket ID number: EPA-HQ-OPP-2017-0336. Applicant: United States Department of Agriculture—Agricultural Research Service, 215 Johnson Hall, Washington State University, Pullman, WA 99164. Product name: Pseudomonas fluorescens strain ACK55. Active ingredient: Herbicide—Pseudomonas fluorescens strain ACK55 at 0.24%. Proposed use: For manufacturing use. Contact: BPPD.

5. File symbol: 91428-R. Docket ID number: EPA-HQ-OPP-2017-0419. Applicant: Brandt IHammer, 479 Village Park Dr., Powell, OH 43065. Product name: Technical α-Methyl Mannoside. Active ingredient: Plant Regulator—Methyl alpha-D-mannopyranoside at 100.00%. Proposed use: For manufacturing use. Contact: BPPD.

6. File symbol: 91746-A. Docket ID number: EPA-HQ-OPP-2017-0432. Applicant: Belchim Crop Protection NV/SA c/o Critical Path Services, LLC, 3070 McCann Farm Drive, Suite 112, Garnet Valley, PA 19060. Product name: Pyridate Technical. Active ingredient: Herbicide—Pyridate [Carbonothioic acid, O-(6-chloro-3-phenyl-4-pyridizinyl) S-octyl ester)] at 92.74%. Proposed use: For manufacturing use. Contact: RD.

7. File symbol: 91746-E. Docket ID number: EPA-HQ-OPP-2017-0432. Applicant: Belchim Crop Protection NV/SA c/o Critical Path Services, LLC, 3070 McCann Farm Drive, Suite 112, Garnet Valley, PA 19060. Product name: BCP258H_4 Herbicide. Active ingredient: Herbicide—Pyridate [Carbonothioic acid, O-(6-chloro-3-phenyl-4-pyridizinyl) S-octyl ester)] at 56.1%. Proposed use: Brassica head and stem vegetables (crop subgroup 5A), cabbage, chickpea (garbanzo bean), collards, field corn, mint, and peanuts. Contact: RD.

8. File symbol: 91746-L. Docket ID number: EPA-HQ-OPP-2017-0432. Applicant: Belchim Crop Protection NV/SA c/o Critical Path Services, LLC, 3070 McCann Farm Drive, Suite 112, Garnet Valley, PA 19060. Product name: Tough 5 EC Herbicide. Active ingredient: Herbicide—Pyridate [Carbonothioic acid, O-(6-chloro-3-phenyl-4-pyridizinyl) S-octyl ester)] at 56.1%. Proposed use: Brassica head and stem vegetables (crop subgroup 5A), cabbage, chickpea (garbanzo bean), collards, field corn, mint, and peanuts. Contact: RD.

9. File symbol: 91746-R. Docket ID number: EPA-HQ-OPP-2017-0432. Applicant: Belchim Crop Protection NV/SA c/o Critical Path Services, LLC, 3070 McCann Farm Drive, Suite 112, Garnet Valley, PA 19060. Product name: BCP258H_3 Herbicide. Active ingredient: Herbicide—Pyridate [Carbonothioic acid, O-(6-chloro-3-phenyl-4-pyridizinyl) S-octyl ester)] at 56.1%. Proposed use: Brassica head and stem vegetables (crop subgroup 5A), cabbage, chickpea (garbanzo bean), collards, field corn, mint, and peanuts. Contact: RD.

10. File symbol: 91746-U. Docket ID number: EPA-HQ-OPP-2017-0432. Applicant: Belchim Crop Protection NV/SA c/o Critical Path Services, LLC, 3070 McCann Farm Drive, Suite 112, Garnet Valley, PA 19060. Product name: BCP258H_2 Herbicide. Active ingredient: Herbicide—Pyridate [Carbonothioic acid, O-(6-chloro-3-phenyl-4-pyridizinyl) S-octyl ester)] at 56.1%. Proposed use: Brassica head and stem vegetables (crop subgroup 5A), cabbage, chickpea (garbanzo bean), collards, field corn, mint, and peanuts. Contact: RD.

Authority: 7 U.S.C. 136 et seq.

Dated: October 2, 2017.
Delores Barber,
Director, Information Technology and Resources Management Division, Office of Pesticide Programs.

[FR Doc. 2017-22117 Filed 10-11-17; 8:45 am]

BILLING CODE 6560-50-P